DEPARTMENT OF TRANSPORTATION

Maritime Administration

[Docket No. MARAD-2018-0020]

Inventory of U.S.-Flag Launch Barges; Invitation for Public Comments

AGENCY: Maritime Administration, Department of Transportation.

ACTION: Notice to U.S.-flag launch barge owners and operators.

SUMMARY: The Maritime Administration is updating its inventory of U.S.-flag launch barges. Additions, changes and comments to the list are requested. Launch barge information may be found at http://www.marad.dot.gov/ships-and-shipping/domestic-shipping/launch-barge-program/.

DATES: Submit comments on or before March 15, 2018.

ADDRESSES: Comments should refer to docket number MARAD-2018-0020. Written comments may be submitted by hand or by mail to the Docket Clerk, U.S. Department of Transportation, Docket Operations, M-30, West Building Ground Floor, Room W12-140, 1200 New Jersey Avenue SE, Washington, DC 20590. You may also send comments electronically via the internet at http://www.regulations.gov. All comments will become part of this docket and will be available for inspection and copying at the above address between 10:00 a.m. and 5:00 p.m., Monday through Friday, except federal holidays. An electronic version of this document and all documents entered into this docket is available at http://www.regulations.gov.

FOR FURTHER INFORMATION CONTACT: Bianca Carr, U.S. Department of Transportation, Maritime Administration, 1200 New Jersey Avenue SE, Room W23-453, Washington, DC 20590. Telephone 202-366-9309, Email Bianca.Carr@dot.gov.

SUPPLEMENTARY INFORMATION: Pursuant to 46 CFR part 389 (Docket No. MARAD-2008-0045) Determination of Availability of Coastwise-Qualified Vessels for the Transportation of Platform Jackets, the Final Rule requires that the Maritime Administration publish a notice in the Federal Register requesting that owners or operators (or potential owners or operators) of coastwise qualified launch barges notify us of:

(1) Their interest in participating in the transportation and, if needed, the launching or installation of offshore platform jackets; (2) the contact information for their company; and, (3) the specifications of any currently owned or operated coastwise qualified launch barges or plans to construct same.

In addition, we are also seeking information on non-coastwise qualified (U.S.-flag) launch barges as well.

Privacy Act

In accordance with 5 U.S.C. 553(c), DOT/MARAD solicits comments from the public to better inform its rulemaking process. DOT/MARAD posts these comments, without edit, to www.regulations.gov, as described in the system of records notice, DOT/ALL-14 FDMS, accessible through www.dot.gov/privacy. In order to facilitate comment tracking and response, we encourage commenters to provide their name, or the name of their organization; however, submission of names is completely optional. Whether or not commenters identify themselves, all timely comments will be fully considered. If you wish to provide comments containing proprietary or confidential information, please contact the agency for alternate submission instructions.

Authority: 49 CFR 1.93(a), 46 U.S.C. 55103, 46 U.S.C. 12121.

* * * * *

By Order of the Maritime Administrator.
Dated: February 8, 2018.
T. Mitchell Hudson, Jr.,
Secretary, Maritime Administration.

Reported U.S.-Flag Launch Barges
Vessel name | Owner | Built | Length (ft.) | Beam (ft.) | DWT (L.T.) | Approx launch capacity (L.T.) | Coastwise qualified
455 4 | Crowley Marine Services | 2009 | 400 | 105 | 19,226 | 18,766 | X
455 5 | Crowley Marine Services | 2009 | 400 | 105 | 19,226 | 18,766 | X
455 6 | Crowley Marine Services | 2009 | 400 | 105 | 19,226 | 18,766 | X
455 7 | Crowley Marine Services | 2009 | 400 | 105 | 19,226 | 18,766 | X
455 8 | Crowley Marine Services | 2010 | 400 | 105 | 19,226 | 18,766 | X
455 9 | Crowley Marine Services | 2010 | 400 | 105 | 19,226 | 18,766 | X
Barge 400L | Crowley Marine Services | 1997 | 400 | 100 | 19,646 | 19,146 | X
Barge 410 | Crowley Marine Services | 1974 | 400 | 99.5 | 12,035 | 11,535 | X
Barge 455-3 | Crowley Marine Services | 2008 | 400 | 105 | 19,226 | 18,766 | X
Barge 500-1 | Crowley Marine Services | 1982 | 400 | 105 | 16,397 | 15,897 | X
Julie B | Crowley Marine Services | 2008 | 400 | 130 | 23,600 | 23,100 | X
Marty J | Crowley Marine Services | 2008 | 400 | 105 | 19,226 | 18,766 | X
MWB 403 | HMC Leasing, Inc | 1979 | 400 | 105 | 16,322 | 6,800 | X
INTERMAC 600 | J. Ray McDermott, Inc | 1973 | 500 | 120 | 32,290 | 15,600 |
McDermott Tidelands 020 | J. Ray McDermott, Inc | 1980 | 240 | 72 | 5,186 | 5,000 | X
McDermott Tidelands 021 | J. Ray McDermott, Inc | 1980 | 240 | 72 | 4,700 | 2,200 | X
McDermott Tidelands 021 | J. Ray McDermott, Inc | 1981 | 240 | 72 | 5,186 | 5,000 | X
McDermott Tidelands No. 012 | J. Ray McDermott, Inc | 1973 | 240 | 72.2 | 4,217 | 4,000 | X
McDermott Tidelands No. 014 | J. Ray McDermott, Inc | 1973 | 240 | 72.2 | 4,217 | 4,000 | X
MARMAC 11 | McDonough Marine Service | 1994 | 250 | 72 | 4,743 | 4,200 | X
MARMAC 12 | McDonough Marine Service | 1994 | 250 | 72 | 4,743 | 4,200 | X
MARMAC 15 | McDonough Marine Service | 1995 | 250 | 72 | 4,743 | 4,200 | X
MARMAC 16 | McDonough Marine Service | 1995 | 250 | 72 | 4,743 | 4,200 | X
MARMAC 17 | McDonough Marine Service | 1997 | 250 | 72 | 4,743 | 4,200 | X
MARMAC 18 | McDonough Marine Service | 1998 | 250 | 72 | 4,743 | 4,200 | X
MARMAC 19 | McDonough Marine Service | 1999 | 250 | 72 | 4,743 | 4,200 | X
MARMAC 20 | McDonough Marine Service | 1999 | 250 | 72 | 4,743 | 4,200 | X
MARMAC 21 | McDonough Marine Service | 2002 | 260 | 72 | 5,163 | 4,500 | X
MARMAC 22 | McDonough Marine Service | 2003 | 260 | 72 | 5,082 | 4,500 | X
MARMAC 23 | McDonough Marine Service | 2009 | 260 | 72 | 5,082 | 4,500 | X
MARMAC 24 | McDonough Marine Service | 2010 | 260 | 72 | 5,082 | 4,500 | X
MARMAC 25 | McDonough Marine Service | 2010 | 260 | 72 | 5,082 | 4,500 | X
MARMAC 300 | McDonough Marine Service | 1998 | 300 | 100 | 10,105 | 9,500 | X
MARMAC 301 | McDonough Marine Service | 1996 | 300 | 100 | 9,553 | 9,000 | X
MARMAC 3018 | McDonough Marine Service | 1996 | 318 | 95′ −9″ | 10,046 | 9,500 |
MARMAC 400 | McDonough Marine Service | 2001 | 400 | 99′ −9″ | 11,272 | 10,500 | X
MARMAC 9 | McDonough Marine Service | 1993 | 250 | 72 | 4,743 | 4,200 | X
COLUMBIA NORFOLK | Moran Towing | 1982 | 329′ 3 1/2″ | 78 | 8,036 | 8,000 | X
FAITHFUL SERVANT | Puglia Engineering, Inc | 1979 | 492 | 131 | 23,174 | 23,000 |
ATLANTA BRIDGE | Trailer Bridge, Inc | 1998 | 402 | 100 | 6,017 | 6,017 | X
BROOKLYN BRIDGE | Trailer Bridge, Inc | 1998 | 402 | 100 | 6,017 | 6,017 | X
CHARLOTTE BRIDGE | Trailer Bridge, Inc | 1998 | 402 | 100 | 6,017 | 6,017 | X
CHICAGO BRIDGE | Trailer Bridge, Inc | 1998 | 402 | 100 | 6,017 | 6,017 | X
MEMPHIS BRIDGE | Trailer Bridge, Inc | 1998 | 402 | 100 | 6,017 | 6,017 | X

[FR Doc. 2018-02885 Filed 2-12-18; 8:45 am]

BILLING CODE 4910-81-P